ENVIRONMENTAL PROTECTION AGENCY

[FRL-8207-5]

Science Advisory Board Staff Office; Notification of a Public Meeting of the Science Advisory Board Committee on Valuing the Protection of Ecological Systems and Services (C-VPESS)

AGENCY: Environmental Protection Agency (EPA).

ACTION: Notice.

SUMMARY: The EPA Science Advisory Board (SAB) Staff Office announces a public meeting of the SAB Committee on Valuing the Protection of Ecological Systems and Services (C-VPESS) to discuss components of a draft committee report related to valuing the protection of ecological systems and services.

DATES: A public meeting of the C-VPESS will be held from 9 a.m. to 5:30 p.m. (Eastern Time) on October 5, 2006 and from 8 a.m. to 3 p.m. (Eastern Time) on October 6, 2006.

ADDRESSES: The meeting will take place at the SAB Conference Center, 1025 F Street, NW., Suite 3700, Washington, DC 20004.

FOR FURTHER INFORMATION CONTACT: Members of the public wishing further information regarding the SAB C-VPESS meeting may contact Dr. Angela Nugent, Designated Federal Officer (DFO), via telephone at: (202) 343-9981 or e-mail at: nugent.angela@epa.gov. The SAB mailing address is: U.S. EPA, Science Advisory Board (1400F), 1200 Pennsylvania Avenue, NW., Washington, DC 20460. General information about the SAB, as well as any updates concerning the meetings announced in this notice, may be found in the SAB Web site at: http://www.epa.gov/sab.

SUPPLEMENTARY INFORMATION: The SAB was established by 42 U.S.C. 4365 to provide independent scientific and technical advice, consultation, and recommendations to the EPA Administrator on the technical basis for Agency positions and regulations. The SAB is a Federal advisory committee chartered under the Federal Advisory Committee Act (FACA), as amended, 5 U.S.C., App. The SAB will comply with the provisions of FACA and all appropriate SAB Staff Office procedural policies.

Background: Background on the SAB C-VPESS and its charge was provided in 68 FR 11082 (March 7, 2003). The purpose of the meeting is for the SAB C-VPESS to discuss components of a draft advisory report calling for expanded and integrated approach for valuing the protection of ecological systems and services. The Committee will discuss: Application of methods for valuing the protection of ecological systems and services; general ecological valuation methods (e.g., the need for a data and model bank for Agency information about ecological valuation, how to implement the concept of ecological services, how to address uncertainties in ecological services) and how to address them; and next steps for characterizing methods and approaches involved in ecological valuation.

These activities are related to the Committee's overall charge: To assess Agency needs and the state of the art and science of valuing protection of ecological systems and services and to identify key areas for improving knowledge, methodologies, practice, and research.

Availability of Meeting Materials: Materials in support of this meeting will be placed on the SAB Web site at: http://www.epa.gov/sab/ in advance of this meeting.

Procedures for Providing Public Input: Interested members of the public may submit relevant written or oral information for the SAB to consider during the advisory process. Oral Statements: In general, individuals or groups requesting an oral presentation at a public meeting will be limited to five minutes per speaker, with no more than a total of one hour for all speakers. Interested parties should contact Dr. Nugent, DFO, at the contact information noted above, by September 25, 2006, to be placed on the public speaker list for the October 5-6, 2006 meeting. Written Statements: Written statements should be received in the SAB Staff Office by September 24, 2006, so that the information may be made available to the SAB for their consideration prior to this meeting. Written statements should be supplied to the DFO in the following formats: One hard copy with original signature, and one electronic copy via e-mail to nugent.angela@epa.gov (acceptable file format: Adobe Acrobat PDF, WordPerfect, MS Word, MS PowerPoint, or Rich Text files in IBM-PC/Windows 98/2000/XP format).

Meeting Access: For information on access or services for individuals with disabilities, please contact Dr. Angela Nugent at (202) 343-9981 or nugent.angela@epa.gov. To request accommodation of a disability, please contact Dr. Nugent, preferably at least 10 days prior to the meeting to give EPA as much time as possible to process your request.

Dated: August 3, 2006.
Anthony Maciorowski,
Associate Director for Science, EPA Science Advisory Board Staff Office.

[FR Doc. E6-12956 Filed 8-8-06; 8:45 am]

BILLING CODE 6560-50-P